DEPARTMENT OF DEFENSE

Department of the Army

Update to the 26 September 2011 Military Freight Traffic Unified Rules Publication (MFTURP) NO. 1

AGENCY: Department of the Army, DoD.

SUMMARY: The Military Surface Deployment and Distribution Command (SDDC) is providing notice that it is releasing an updated MFTURP No. 1. The update will be effective 20 August 2012.

ADDRESSES: Submit comments to Publication and Rules Manager, Strategic Business Directorate, Business Services, 1 Soldier Way, Building 1900W, ATTN: SDDC-OPM, Scott AFB 62225. Request for additional information may be sent by email to: chad.t.privett@us.army.mil.

FOR FURTHER INFORMATION CONTACT: Mr. Chad Privett, (618) 220-6901.

SUPPLEMENTARY INFORMATION: Reference: Military Freight Traffic Unified Rules Publications (MFTURP) No. 1.

Background: The MFTURP No. 1 governs the purchase of surface freight transportation in the Continental United States (CONUS) by DoD using Federal Acquisition Regulation (FAR) exempt transportation service contracts.

Miscellaneous: This publication, as well as the other SDDC publications, can be accessed via the SDDC Web site at: http://www.sddc.army.mil/GCD/default.aspx.

C.E. Radford, III,
Division Chief, SDDC-G9, Business Improvements.

[FR Doc. 2012-20357 Filed 8-17-12; 8:45 am]

BILLING CODE 3710-08-P